DEPARTMENT OF LABOR

Employment and Training Administration

ETA-5130 Benefit Appeals Report; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed extension collection of the ETA-5130 Benefit Appeals Report. A copy of the proposed information collection request can be obtained by contacting the office listed below in the addressee section of this notice.

DATES: Written comments must be submitted to the office listed in the addressee section below on or before July 9, 2001.

ADDRESSES: Jack Bright, Office of Workforce Security, Employment and Training Administration, U.S. Department of Labor, Room S-4516, 200 Constitution Avenue, NW., Washington, DC 20210, telephone number (202) 693-3214 (this is not a toll-free number).

SUPPLEMENTARY INFORMATION:

I. Background

The ETA-5130, Benefit Appeals Report, contains information on the number of unemployment insurance appeals and the resultant decisions classified by program, appeals level, cases filed and disposed of (workflow), and decisions by level, appellant and issue. The data on this report is used by both the Regional and National Office Unemployment Insurance staff to monitor the benefit appeals process in the State Employment Security Agencies (SESAs) and to develop any needed plans for remedial action. The data is also needed for workload budgeting and to determine administrative funding. If this information were not available, developing problems might not be discovered early enough to prevent the solutions from being extremely time consuming and costly.

Nearly all States now collect, store and report this data with automated systems. Consequently, the burden hours and burden costs for operation and maintenance have been reduced accordingly.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Continued collection of the ETA-5130 data will provide for continuous monitoring of the SESAs appellate processes and needed data for the budgeting and administrative funding activities. The data is collected monthly so that developing backlogs of undecided appeals can be detected as early as possible.

Type of Review: Extension.

Agency: Employment and Training Administration.

Title: Benefit Appeals Report.

OMB Number: 1205-0172.

Agency Number: ETA-5130.

Affected Public: State Governments.

Total Respondents: 53.

Frequency: Monthly.

Total Responses: 636.

Average Time per Response: 1 hour.

Estimated Total Burden Hours: 636 hours.

Total Burden Cost (capital/startup): 0.

Total Burden Cost (operating/maintaining): $15,900.

Comments submitted in response to this comment request will be summarized and/or included in the request for Office of Management and Budget approval of the information collection request; they will also become a matter of public record.

Dated: May 1, 2001.
Grace A. Kilbane,
Administrator, Office of Workforce Security.

[FR Doc. 01-11796 Filed 5-9-01; 8:45 am]

BILLING CODE 4510-30-P